ADMINISTRATIVE CONFERENCE OF THE UNITED STATES

Notice of Public Meeting of the Assembly of the Administrative Conference of the United States

AGENCY: Administrative Conference of the United States.

ACTION: Notice of Public Meeting.

SUMMARY: Pursuant to the Federal Advisory Committee Act (Pub. L. 92-463), notice is hereby given of a meeting of the Assembly of the Administrative Conference of the United States to consider proposed recommendations which deal with: (1) Regulatory analysis requirements, (2) midnight rules, (3) immigration removal adjudication, (4) the Paperwork Reduction Act, and (5) improving coordination of related agency responsibilities. To facilitate public participation, the Conference is inviting public comment on the recommendations that will be considered at the meeting.

DATES: Meeting dates are Thursday, June 14, 2012, 1:00 p.m. to 6:00 p.m.; and Friday, June 15, 2012, 9:00 a.m. to 12:30 p.m. Comments on the recommendations must be received by noon, Friday, June 8, 2012.

ADDRESSES: The Public Meeting will be held at the Commodity Futures Trading Commission, Three Lafayette Centre, 1155 21st Street NW., Washington, DC 20581 (Main Conference Room).

Submit comments to either of the following: Email comments@acus.gov, with “June 2012 Plenary Session Comments” in the subject line; or mail to June 2012 Plenary Session Comments, Administrative Conference of the United States, Suite 706 South, 1120 20th Street NW., Washington, DC 20036.

FOR FURTHER INFORMATION CONTACT: Shawne McGibbon, General Counsel (the Designated Federal Officer), Administrative Conference of the United States, Suite 706 South, 1120 20th Street NW., Washington, DC 20036; Telephone 202-480-2088.

SUPPLEMENTARY INFORMATION: The Administrative Conference of the United States makes recommendations to administrative agencies, the President, Congress, and the Judicial Conference of the United States regarding the improvement of Federal administrative procedures (5 U.S.C. 594). The objectives of these recommendations are to ensure that private rights may be fully protected and regulatory activities and other Federal responsibilities may be carried out expeditiously in the public interest, to promote more effective public participation and efficiency in the rulemaking process, reduce unnecessary litigation in the regulatory process, improve the use of science in the regulatory process, and improve the effectiveness of laws applicable to the regulatory process (5 U.S.C. 591).

The membership of the Conference meeting in plenary session constitutes the Assembly of the Conference (5 U.S.C. 595). The Assembly will meet in plenary session to consider five proposed recommendations:

(1) The recommendation “Regulatory Analysis Requirements” addresses the issue of agencies having to comply with numerous regulatory analysis requirements created by statute and executive orders. The recommendation is supported by an extensive report which includes an appendix charting all of the regulatory analysis requirements of the 100 significant rules subject to Office of Management and Budget (OMB) review in 2010. The goal of the recommendation is to ensure agencies fulfill the regulatory analysis requirements efficiently, and to enhance the transparency of the process. Agencies, the Congress, the President and the Office of Information and Regulatory Affairs at OMB are all encouraged to play a role in achieving this goal.

(2) The recommendation “Midnight Rules” addresses several issues raised by the publication of rules in the final months of a presidential administration and offers proposals for limiting the practice by incumbent administrations and enhancing the powers of incoming administrations to review midnight rules.

(3) The recommendation “Immigration Removal Adjudication” addresses the problem of case backlogs in immigration removals, and offers nearly 40 suggestions on ways to enhance efficiency and fairness in these cases.

(4) The recommendation “Paperwork Reduction Act” (PRA or the Act) addresses a variety of issues that have arisen since the Act was last revised in 1995. For instance, despite OMB guidance on the application of the PRA to social media, the Act does not yet account for new technologies. The proposal offers suggestions for improving public engagement in the review of information collection requests and for making the process more efficient for the agencies and OMB.

(5) The recommendation “Improving Coordination of Related Agency Responsibilities” addresses the problem of overlapping and fragmented procedures associated with assigning multiple agencies similar or related functions, or dividing authority among agencies. The underlying report was based on a 2012 Harvard Law Review article titled, “Agency Coordination in Shared Regulatory Space” (125 Harv. L. Rev. 1131). The recommendation proposes some reforms aimed at improving coordination of agency policymaking, including joint rulemaking, interagency agreements, and agency consultation provisions.

This meeting will be open to the public and may end prior to the designated end time if business is concluded earlier. Members of the public are invited to attend the meeting in person, subject to space limitations. The Conference will provide live, remote public access to the meeting via webcast at www.acus.gov. The webcast will also be viewable via the agency's Web site subsequent to the meeting. Anyone who wishes to attend the meeting in person is asked to RSVP to comments@acus.gov, no later than June 12, 2012, in order to facilitate entry. Members of the public who attend the meetings of the full Assembly may be permitted to speak only with the consent of the Chairman and the unanimous approval of the members. The Conference welcomes the attendance of the public and will make every effort to accommodate persons with physical disabilities or special needs. If you need special accommodations due to disability, please inform the contact person noted above no later than 7 days in advance of the meeting.

Members of the public may submit written comments on any or all of the recommendations to either of the addresses listed above no later than noon, June 8, 2012. Copies of the proposed recommendations, accompanying research reports and information on remote access will be available at www.acus.gov. Comments relating to the individual proposed recommendations will be delivered to the Designated Federal Officer listed on this notice and will be posted on the Conference's Web site. Comments received at this stage will be available to the full Assembly prior to their consideration of the final recommendations.

Dated: May 22, 2012.
David Pritzker,
Deputy General Counsel.

[FR Doc. 2012-12787 Filed 5-24-12; 8:45 am]

BILLING CODE 6110-01-P